DEPARTMENT OF DEFENSE

Office of the Secretary

Defense Science Board

AGENCY: Department of Defense.

ACTION: Notice of Advisory Committee Meeting Date Change.

SUMMARY: On Wednesday, March 26, 2003 (68 FR 14598), the Department of Defense announced closed meetings of the Defense Science Board (DSB) Task Force on Enduring Freedom Lessons Learned. One of the meetings has been rescheduled from April 21, 2003, to April 23, 2003. The meeting will take place at the U.S. Transportation Command at Scott Air Force Base, IL.

Dated: April 16, 2003.
Patricia L. Toppings,
Alternate OSD Federal Register Liaison Officer, Department of Defense.

[FR Doc. 03-9962 Filed 4-22-03; 8:45 am]

BILLING CODE 5001-08-M